ENVIRONMENTAL PROTECTION AGENCY

[EPA-HQ-OPP-2012-0425; FRL-9368-9]

Tralomethrin and Fenarimol Registration Review Final Decisions; Notice of Availability

AGENCY: Environmental Protection Agency (EPA).

ACTION: Notice.

SUMMARY: This notice announces the availability of EPA's final registration review decision for the pesticides tralomethrin and fenarimol. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment.

FOR FURTHER INFORMATION CONTACT: For pesticide specific information, contact: Wilhelmena Livingston (tralomethrin), telephone number: (703) 308-8025; fax number: (703) 308-8005; email address: livingston.wilhelmena@epa.gov, or Garland Waleko (fenarimol), telephone number: (703) 308-8049; fax number: (703) 308-8005; email address: waleko.garland@epa.gov., Pesticide Re-evaluation Division (7508P), Office of Pesticide Programs, Environmental Protection Agency, 1200 Pennsylvania Ave., NW., Washington, DC 20460-0001.

For general information on the registration review program, contact: Kevin Costello, Pesticide Re-evaluation Division (7508P), Office of Pesticide Programs, Environmental Protection Agency, 1200 Pennsylvania Ave. NW., Washington, DC 20460-0001; telephone number: (703) 305-5026; fax number: (703) 308-8005; email address: costello.kevin@epa.gov.

SUPPLEMENTARY INFORMATION:

I. General Information

A. Does this action apply to me?

This action is directed to the public in general, and may be of interest to a wide range of stakeholders including environmental, human health, farm worker and agricultural advocates; the chemical industry; pesticide users; and members of the public interested in the sale, distribution, or use of pesticides. Since others also may be interested, the Agency has not attempted to describe all the specific entities that may be affected by this action. If you have any questions regarding the applicability of this action to a particular entity, consult the pesticide specific contact person listed under FOR FURTHER INFORMATION CONTACT.

B. How can I get copies of this document and other related information?

The docket for this action, identified by docket identification (ID) number EPA-HQ-OPP-2012-0425, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

A. What action is the agency taking?

Pursuant to 40 CFR 155.58(c), this notice announces the availability of EPA's registration review final decisions for tralomethrin, Case Number 7400, and fenarimol, Case Number 7001. Tralomethrin was a broad-spectrum Type II systemic pyrethroid ester insecticide that was registered for use in a variety of residential and commercial settings, and on a small number of agricultural crops including broccoli, cauliflower, cotton, lettuce, peanuts, and sunflowers. Tralomethrin technical was cancelled in a product cancellation order issued in the Federal Register of February 25, 2011. The effective date of the cancellation is February 25, 2011 (76 FR 10587, February 25, 2011). Fenarimol is a member of the pyrimidine class of fungicides used for control of such pests as scab, powdery mildew, rusts, and leaf spot. Fenarimol inhibits fungal growth by adversely affecting the formation of the fungal sterol ergosterol, and is currently registered for use on fruit and nut crops such as apples, cherries, filberts (nonbearing), grapes, hops, pears, and pecans, as well as on ornamental plants, trees, and grasses and turf lawns. The fenarimol technical and end use products are voluntarily canceled as of July 31, 2013.

Pursuant to 40 CFR 155.57, a registration review decision is the Agency's determination whether a pesticide meets, or does not meet, the standard for registration in FIFRA. EPA has considered tralomethrin and fenarimol in light of the FIFRA standard for registration. The tralomethrin and fenarimol final decision documents in the docket describe the Agency's rationale for issuing a registration review final decision for these pesticides.

In addition to the final registration review decision documents, the registration review docket for tralomethrin and fenarimol also includes other relevant documents related to the registration review of these cases. The proposed registration review decisions were posted to the docket and the public was invited to submit any comments or new information. During the 60-day comment period, no public comments were received. Pursuant to 40 CFR 155.58(c), the registration review case docket for tralomethrin and fenarimol will remain open until all actions required in the final decision have been completed.

Background on the registration review program is provided at: http://www.epa.gov/oppsrrd1/registration_review. Links to earlier documents related to the registration review of these pesticides are provided at: http://www.epa.gov/pesticides/chemicalsearch/.

B. What is the agency's authority for taking this action?

Section 3(g) of FIFRA and 40 CFR part 155, subpart C, provide authority for this action.

List of Subjects

Environmental protection, Registration review, Pesticides and pests, Tralomethrin and Fenarimol.

Dated: November 9, 2012.
Richard P. Keigwin, Jr.,
Director, Pesticide Re-evaluation Division, Office of Pesticide Programs.

[FR Doc. 2012-28213 Filed 11-20-12; 8:45 am]

BILLING CODE 6560-50-P